DEPARTMENT OF VETERANS AFFAIRS

Post-9/11 GI Bill 2010-2011 Tuition and Fee In-State Maximums

AGENCY: Department of Veterans Affairs (VA).

ACTION: Notice.

SUMMARY: The purpose of this notice is to advise the public of the Post-9/11 GI Bill tuition and fee in-State maximum rates for the 2010-2011 academic year. The Post-9/11 GI Bill pays tuition and fees charged to eligible individuals up to the highest in-State undergraduate tuition and fees charged by a public institution of higher learning (IHL) in the State where the school is located. The amount of tuition and fees payable will vary based on the location of the IHL and the individual's eligibility percentage (40%-100%). VA will use the maximum amounts listed below to determine the amounts payable for training pursued under the Post-9/11 GI Bill after July 31, 2010, and before August 1, 2011.

FOR FURTHER INFORMATION CONTACT: Lakisha Rogers, Management and Program Analyst (225C), Education Service, Veterans Benefits Administration, Department of Veterans Affairs, 810 Vermont Avenue, NW., Washington, DC 20420, (202) 461-9854.

Highest In-State Maximum Tuition and Fee Rates
[By State]
State | Maximum tuition per credit | Maximum fees per term
Alabama | 329.17 | 20,787.00
Alaska | 170.00 | 19,455.00
Arizona | 725.00 | 15,000.00
Arkansas | 210.15 | 1,774.78
California | 391.75 | 2,264.75
Colorado | 529.50 | 45,774.25
Connecticut | 543.00 | 2,660.50
Delaware | 425.33 | 584.00
District of Columbia | 265.83 | 310.00
Florida | 295.00 | 43,660.00
Guam | 190.00 | 249.00
Georgia | 505.00 | 15,440.00
Hawaii | 316.00 | 1,325.70
Idaho | 273.00 | 2,428.24
Illinois | 629.75 | 16,367.00
Indiana | 338.50 | 13,063.00
Iowa | 343.66 | 17,222.00
Kansas | 420.05 | 50,752.96
Kentucky | 456.30 | 11,235.00
Louisiana | 473.00 | 2,884.70
Maine | 345.00 | 5,500.00
Maryland | 471.86 | 16,308.00
Massachusetts | 340.00 | 20,793.50
Michigan | 1,001.00 | 19,374.50
Minnesota | 450.00 | 37,808.00
Mississippi | 584.75 | 805.00
Missouri | 373.00 | 11,898.00
Montana | 205.40 | 13,646.00
Nebraska | 251.00 | 1,589.55
Nevada | 156.75 | 4,072.46
New Hampshire | 1,003.75 | 5,197.00
New Jersey | 468.66 | 7,962.00
New Mexico | 229.40 | 6,104.00
New York | 1,010.00 | 12,293.00
North Carolina | 606.63 | 2,293.40
North Dakota | 464.46 | 25,686.00
Ohio | 508.25 | 15,134.00
Oklahoma | 188.60 | 15,058.05
Oregon | 407.00 | 25,669.00
Pennsylvania | 934.00 | 6,110.00
Puerto Rico | 90.00 | 525.00
Rhode Island | 376.00 | 5,187.00
South Carolina | 829.00 | 2,798.00
South Dakota | 99.80 | 25,685.00
Tennessee | 270.00 | 13,426.00
Texas | 1,549.00 | 12,130.00
Utah | 238.70 | 85,255.00
Vermont | 512.00 | 5,106.00
Virgin Island | 125.00 | 706.00
Virginia | 353.50 | 3,969.50
Washington | 430.00 | 9,648.00
West Virginia | 268.67 | 4,276.67
Wisconsin | 673.00 | 30,963.00
Wyoming | 99.00 | 4,335.00
Foreign | 439.69 | 13,713.88

Approved: October 18, 2010.
John R. Gingrich,
Chief of Staff, Department of Veterans Affairs.

[FR Doc. 2010-27095 Filed 10-26-10; 8:45 am]

BILLING CODE 8320-01-P